DEPARTMENT OF HOMELAND SECURITY

Federal Emergency Management Agency

[Docket ID FEMA-2014-0002; Internal Agency Docket No. FEMA-B-1408]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arkansas:
Benton | City of Bentonville (12-06-3754P) | The Honorable Bob McCaslin, Mayor, City of Bentonville, 117 West Central Avenue, Bentonville, AR 72712 | 305 Southwest A Street, Bentonville, AR 72712 | http://www.msc.fema.gov/lomc | June 26, 2014 | 050012
Garland | City of Hot Springs (12-06-3592P) | The Honorable Ruth Carney, Mayor, City of Hot Springs, 133 Convention Boulevard, Hot Springs National Park, AR 71901 | Hot Springs City Hall Annex, 111 Opera Street, Hot Springs National Park, AR 71901 | http://www.msc.fema.gov/lomc | June 26, 2014 | 050084
New Jersey:
Monmouth | Borough of Shrewsbury (13-02-1926P) | The Honorable Donald W. Burden, Mayor, Borough of Shrewsbury, P.O. Box 7420, Shrewsbury, NJ 07702 | Borough Municipal Complex, 419 Sycamore Avenue, Shrewsbury, NJ 07702 | http://www.msc.fema.gov/lomc | May 27, 2014 | 340326
Morris | Township of Hanover (14-02-0085P) | The Honorable Ronald F. Francioli, Mayor, Township of Hanover, P.O. Box 250, Whippany, NJ 07981 | Hanover Township Municipal Building, 1000 Route 10, Whippany, NJ 07981 | http://www.msc.fema.gov/lomc | July 10, 2014 | 340343
New Mexico: Santa Fe | City of Santa Fe (13-06-3570P) | The Honorable David Coss, Mayor, City of Santa Fe, 200 Lincoln Avenue, Santa Fe, NM 87504 | 200 Lincoln Avenue, Santa Fe, NM 87504 | http://www.msc.fema.gov/lomc | July 7, 2014 | 350070
Oklahoma:
Kay | City of Ponca City (13-06-3801P) | The Honorable Homer Nicholson, Mayor, City of Ponca City, 516 East Grand Avenue, Ponca City, OK 74601 | City Hall, 516 East Grand Avenue, Ponca City, OK 74601 | http://www.msc.fema.gov/lomc | July 10, 2014 | 400080
Pottawatomie | City of Shawnee (13-06-4706P) | Mr. Brian McDougal, Manager, City of Shawnee, 16 West 9th Street, Shawnee, OK 74801 | City Hall, 16 West 9th Street, Shawnee, OK 74801 | http://www.msc.fema.gov/lomc | June 30, 2014 | 400178
Texas:
Bexar | City of Helotes (13-06-4596P) | The Honorable Thomas A. Schoolcraft, Mayor, City of Helotes, P.O. Box 507, Helotes, TX 78023 | Development Services Department, 12951 Bandera Road, Helotes, TX 78023 | http://www.msc.fema.gov/lomc | May 1, 2014 | 481643
Bexar | City of San Antonio (13-06-4596P) | The Honorable Julian Castro, Mayor, City of San Antonio, P.O. Box 839966, San Antonio, TX 78283 | Department of Public Works, Storm Water Engineering, 1901 South Alamo Street, 2nd Floor, San Antonio, TX 78204 | http://www.msc.fema.gov/lomc | May 1, 2014 | 480045
Bexar | City of San Antonio (14-06-0172P) | The Honorable Julian Castro, Mayor, City of San Antonio, P.O. Box 839966, San Antonio, TX 78283 | Department of Public Works, Storm Water Engineering, 1901 South Alamo Street, 2nd Floor, San Antonio, TX 78204 | http://www.msc.fema.gov/lomc | June 23, 3014 | 480045
Bexar | City of San Antonio (14-06-0677P) | The Honorable Julian Castro, Mayor, City of San Antonio, P.O. Box 839966, San Antonio, TX 78283 | Department of Public Works, Storm Water Engineering, 1901 South Alamo Street, 2nd Floor, San Antonio, TX 78204 | http://www.msc.fema.gov/lomc | June 23, 3014 | 480045
Bexar | City of San Antonio (14-06-0360P) | The Honorable Julian Castro, Mayor, City of San Antonio, P.O. Box 839966, San Antonio, TX 78283 | Department of Public Works, Storm Water Engineering, 1901 South Alamo Street, 2nd Floor, San Antonio, TX 78204 | http://www.msc.fema.gov/lomc | July 14, 2014 | 480045
Bexar | City of San Antonio (13-06-2351P) | The Honorable Julian Castro, Mayor, City of San Antonio, P.O. Box 839966, San Antonio, TX 78283 | Department of Public Works, Storm Water Engineering, 1901 South Alamo Street, 2nd Floor, San Antonio, TX 78204 | http://www.msc.fema.gov/lomc | July 16, 2014 | 480045
Brazos | City of Bryan (13-06-2606P) | The Honorable Jason Bienski, Mayor, City of Bryan, 300 South Texas Avenue, Bryan, TX 77803 | City Hall, 300 South Texas Avenue, Bryan, TX 77803 | http://www.msc.fema.gov/lomc | July 7, 2014 | 480082
Collin | City of McKinney (13-06-3699P) | The Honorable Brian Loughmiller, Mayor, City of McKinney, P.O. Box 517, McKinney, TX 75070 | City Hall, 222 North Tennessee Street, McKinney, TX 75069 | http://www.msc.fema.gov/lomc | June 30, 2014 | 480135
Dallas | City of Dallas (13-06-2620P) | The Honorable Mike Rawlings, Mayor, City of Dallas, 1500 Marilla Street, Room 5EN, Dallas, TX 75201 | Public Works Department, 320 East Jefferson Boulevard, Room 307, Dallas, TX 75203 | http://www.msc.fema.gov/lomc | July 28, 2014 | 480171
Denton | City of Denton (13-06-3803P) | The Honorable Mark A. Burroughs, Mayor, City of Denton, 215 East McKinney Street, Denton, TX 76201 | City Hall, 601 East Hickory Street, Denton, TX 76205 | http://www.msc.fema.gov/lomc | July 28, 2014 | 480194
Denton | Unincorporated areas of Denton County (13-06-3803P) | The Honorable Mary Horn, Denton County Judge, 110 West Hickory Street, 2nd Floor, Denton, TX 76201 | Denton County Planning Department, 1505 East McKinney Street, Suite 175, Denton, TX 76209 | http://www.msc.fema.gov/lomc | July 28, 2014 | 480774
Harris | City of Houston (13-06-4399P) | The Honorable Annise Parker, Mayor, City of Houston, P.O. Box 1562, Houston, TX 77251 | Public Works and Engineering Department, 611 Walker Street, Houston, TX 77002 | http://www.msc.fema.gov/lomc | June 26, 2014 | 480296
Harris | Unincorporated areas of Harris County (13-06-4399P) | The Honorable Ed M. Emmett, Harris County Judge, 1001 Preston Street, Suite 911, Houston, TX 77002 | Harris County, 10555 Northwest Freeway, Houston, TX 77092 | http://www.msc.fema.gov/lomc | June 26, 2014 | 480287
Harris | Unincorporated areas of Harris County (14-06-0260P) | The Honorable Ed M. Emmett, Harris County Judge, 1001 Preston Street, Suite 911, Houston, TX 77002 | Harris County, 10555 Northwest Freeway, Houston, TX 77092 | http://www.msc.fema.gov/lomc | July 7, 2014 | 480287
Hays | City of Kyle (13-06-3638P) | The Honorable Lucy Johnson, Mayor, City of Kyle, 191 Cleveland, Kyle, TX 78640 | Building Department, 100 West Center Street, Kyle, TX 78640 | http://www.msc.fema.gov/lomc | July 10, 2014 | 481108
Tarrant | City of Forest Hill (14-06-0893X) | The Honorable Gerald Joubert, Mayor, City of Forest Hill, 3219 California Parkway, Forest Hill, TX 76119 | City Hall, 3219 California Parkway, Forest Hill, TX 76119 | http://www.msc.fema.gov/lomc | May 29, 2014 | 480595
Tarrant | City of Fort Worth (13-06-3009P) | The Honorable Betsy Price, Mayor, City of Fort Worth, 1000 Throckmorton Street, Fort Worth, TX 76102 | Department of Transportation and Public Works, 1000 Throckmorton Street, Fort Worth, TX 76102 | http://www.msc.fema.gov/lomc | May 29, 2014 | 480596
Tarrant | City of Mansfield (13-06-2771P) | The Honorable David L. Cook, Mayor, City of Mansfield, 1200 East Broad Street, Mansfield, TX 76063 | City Hall, 1200 East Broad Street, Mansfield, TX 76063 | http://www.msc.fema.gov/lomc | May 16, 2014 | 480606
Virginia: Spotsylvania | Unincorporated areas of Spotsylvania County (13-03-1116P) | Mr. C. Douglas Barnes, Spotsylvania County Administrator, 9104 Courthouse Road, Spotsylvania, VA 22553 | Spotsylvania County Environmental Engineering Office, 9019 Old Battlefield Boulevard, Suite 300, Spotsylvania, VA 22553 | http://www.msc.fema.gov/lomc | June 5, 2014 | 510308
West Virginia:
Cabell | Unincorporated areas of Cabell County (13-03-0925P) | The Honorable Nancy Cartmill, President, Cabell County Commission, 750 5th Avenue, Suite 300, Huntington, WV 25701 | Cabell County Office of Grants, Planning and Permits, 750 5th Avenue, Suite 314, Huntington, WV 25701 | http://www.msc.fema.gov/lomc | June 26, 2014 | 540016
Cabell | Village of Barboursville (13-03-0925P) | The Honorable Paul Turman, Mayor, Village of Barboursville, 721 Central Avenue, Barboursville, WV 25504 | Village Hall, 721 Central Avenue, Barboursville, WV 25504 | http://www.msc.fema.gov/lomc | June 26, 2014 | 540017
Raleigh | Unincorporated areas of Raleigh County (13-03-2399P) | The Honorable David L. Tolliver, President, Raleigh County Commission, 116 1/2 North Heber Street, Beckley, WV 25801 | Raleigh County Commission, 116 1/2 North Heber Street, Beckley, WV 25801 | http://www.msc.fema.gov/lomc | July 14, 2014 | 540169

(Catalog of Federal Domestic Assistance No. 97.022, “Flood Insurance.”)

Dated: April 22, 2014.
Roy E. Wright,
Deputy Associate Administrator for Mitigation, Department of Homeland Security, Federal Emergency Management Agency.

[FR Doc. 2014-11007 Filed 5-12-14; 8:45 am]

BILLING CODE 9110-12-P